FEDERAL ACCOUNTING STANDARDS ADVISORY BOARD

Notice of Request for Volunteers for Leases Implementation Task Force

AGENCY: Federal Accounting Standards Advisory Board.

ACTION: Notice.

Pursuant to 31 U.S.C. 3511(d), the Federal Advisory Committee Act (Pub. L. 92-463), as amended, and the FASAB Rules Of Procedure, as amended in October 2010, notice is hereby given that the Federal Accounting Standards Advisory Board (FASAB) is seeking volunteers for a task force to assist with implementation surrounding Statement of Federal Financial Accounting Standards (SFFAS) 54, Leases: An Amendment of Statement of Federal Financial Accounting Standards (SFFAS) 5, Accounting for Liabilities of the Federal Government, and SFFAS 6, Accounting for Property, Plant, and Equipment. Task force members should have knowledge of, or experience with, accounting issues surrounding leases and also be capable of articulating the views of their organizations and other similar constituents.

FOR FURTHER INFORMATION CONTACT: Ms. Monica R. Valentine, Executive Director, 441 G Street NW, Suite 1155, Washington, DC 20548, or call (202) 512-7350.

Authority: Federal Advisory Committee Act, Pub. L. 92-463.

Dated: August 14, 2019.
Monica R. Valentine,
Executive Director.

[FR Doc. 2019-17838 Filed 8-19-19; 8:45 am]

BILLING CODE 1610-02-P